NUCLEAR REGULATORY COMMISSION

10 CFR Part 50

[Docket No. PRM-50-90; NRC-2008-0279]

Natural Resources Defense Council; Receipt of Petition for Rulemaking; Reopening of Public Comment Period

AGENCY: Nuclear Regulatory Commission.

ACTION: Petition for rulemaking; reopening of public comment period.

SUMMARY: On May 27, 2008 (73 FR 30321), the Nuclear Regulatory Commission (NRC) published for public comment a notice of receipt of a petition for rulemaking, dated March 24, 2008, which was filed with the Commission by Thomas B. Cochran and Matthew G. McKinzie on behalf of the Natural Resources Defense Council. The petition was docketed by the NRC on April 3, 2008, and has been assigned Docket No. PRM-50-90. On August 4 and August 6, 2008, several external stakeholder groups requested a 45 day extension of the public comment period owing to the details provided in the initial petition, short initial comment period, importance of the rulemaking, and the need for directly impacted stakeholders to provide substantive comments to the rulemaking process. The NRC is reopening the comment period on the petition for an additional 45 days from the original August 11, 2008 deadline. The comment period closes on September 25, 2008.

DATES: The comment period has been reopened and now expires on September 25, 2008. Comments received after this date will be considered if it is practical to do so, but the Commission is able to assure consideration only for comments received on or before this date.

ADDRESSES: You may submit comments on this petition by any one of the following methods. Please include PRM-50-90 in the subject line of your comments. Comments on petitions submitted in writing or in electronic form will be made available for public inspection. Personal information, such as your name, address, telephone number, e-mail address, etc., will not be removed from your submission.

Federal eRulemaking Portal: Go to http://www.regulations.gov and search for documents filed under Docket ID [NRC-2008-0279]. Address questions about NRC dockets to Carol Gallagher, 301-415-5905; e-mail Carol.Gallagher@nrc.gov.

Mail comments to: Secretary, U.S. Nuclear Regulatory Commission, Washington, DC 20555-0001, ATTN: Rulemakings and Adjudications Staff.

E-mail comments to: rulemaking.comments@nrc.gov. If you do not receive a reply e-mail confirming that we have received your comments, contact us directly at 301-415-1677.

Hand deliver comments to: 11555 Rockville Pike, Rockville, Maryland 20852, between 7:30 a.m. and 4:15 p.m. Federal workdays, telephone number 301-415-1677.

Fax comments to: Secretary, U.S. Nuclear Regulatory Commission at 301-415-1101. Publicly available documents related to this petition may be viewed electronically on the public computers located at the NRC's Public Document Room (PDR), Room O1 F21, One White Flint North, 11555 Rockville Pike, Rockville, Maryland. The PDR reproduction contractor will copy documents for a fee. Selected documents, including comments, may be viewed and downloaded electronically via the Federal eRulemaking Portal http://www.regulations.gov.

Publicly available documents created or received at the NRC after November 1, 1999, are available electronically at the NRC's Electronic Reading Room at http://www.nrc.gov/reading-rm/adams.html. From this site, the public can gain entry into the NRC's Agencywide Documents Access and Management System (ADAMS), which provides text and image files of NRC's public documents. If you do not have access to ADAMS or if there are problems in accessing the documents located in ADAMS, contact the PDR Reference staff at 1-800-397-4209, 301-415-4737 or by e-mail to pdr.resource@nrc.gov.

A paper copy of the petition may be obtained by contacting Betty Golden, Office of Administration, U.S. Nuclear Regulatory Commission, Washington, DC 20555-0001, telephone 301-415-6863, toll-free 1-800-368-5642, or by e-mail to Betty.Golden@nrc.gov.

FOR FURTHER INFORMATION CONTACT: Michael T. Lesar, Chief, Rulemaking, Directives and Editing Branch, Division of Administrative Services, Office of Administration, U.S. Nuclear Regulatory Commission, Washington, DC 20555-0001, telephone 301-415-7163 or toll-free 1-800-368-5642.

For the U.S. Nuclear Regulatory Commission.
Dated at Rockville, Maryland, this 19th day of August 2008.
Annette L. Vietti-Cook,
Secretary of the Commission.

[FR Doc. E8-19609 Filed 8-22-08; 8:45 am]

BILLING CODE 7590-01-P